DEPARTMENT OF COMMERCE

National Oceanic and Atmospheric Administration

[I.D. 100400A]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet October 30-November 3, 2000. The Council meeting will begin on Tuesday, October 31, at 8 a.m., reconvening each day through Friday. All meetings are open to the public, except a closed session will be held from 8 a.m. until 9 a.m. on Wednesday, November 1 to address litigation and personnel matters. The Council will meet as late as necessary each day to complete its scheduled business.

ADDRESSES: The meetings will be held at the Red Lion Hotel at the Quay, 100 Columbia Street, Vancouver, WA 98660; telephone: (360) 694-8341.

Council address: Pacific Fishery Management Council, 2130 SW Fifth Avenue, Suite 224, Portland, OR 97201.

FOR FURTHER INFORMATION CONTACT: Dr. Donald O. McIsaac, Executive Director; telephone: (503) 326-6352.

SUPPLEMENTARY INFORMATION: The following items are on the Council agenda, but not necessarily in this order:

A. Call to Order

1. Opening Remarks, Introductions

2. Roll Call

3. Executive Director's Report

4. Report on Federal Regulation Implementation

5. Approve Agenda

B. Salmon Management

1. Sequence of Events and Status of Fisheries in 2000

2. Results of Scientific and Statistical Committee Methodology Review

3. Final Report of the Oregon Coastal Natural Coho Work Group

4. Progress Report on Review of Queets Wild Coho Status

5. Salmon Option Hearing Sites

C. Groundfish Management

1. Rebuilding Plans for Cowcod and Canary Rockfish

2. Apportionment of Sablefish Discard Estimates for 2001

3. Final Harvest Levels for 2001

4. Status of NMFS Research Programs and Other Non-regulatory Activities

5. Update on American Fisheries Act Measures

6. Exempted Fishing Permit Applications

7. 2001 Groundfish Management Process and Schedule

8. Sablefish Permit Stacking

9. Management Measures for 2001

10. Permit Transfer Regulatory Amendment

11. Status of Fisheries and Inseason Adjustments

D. Pacific Halibut Management

1. Estimate of Bycatch in 1999

2. Changes to Catch Sharing Plan and Regulations for 2001

E. Coastal Pelagic Species Management

1. Limited Entry Fishery - Capacity Goal and Other Issues

2. Pacific Sardine Harvest Guideline

3. Pacific Sardine Suballocation

F. Habitat Issues

Ongoing and New Habitat Issues

G. Highly Migratory Species Management

1. Update on Fishery Management Plan Development

H. Administrative and Other Matters

1. Report of the Budget Committee

2. Status of Legislation

3. Research and Data Needs and Economic Data Plan

4. Appointments to Advisory Bodies for 2001 Through 2003

5. Draft Agenda Ideas for March 2001

SCHEDULE OF ANCILLARY MEETINGS
DATE | TIME | ROOM NAME
SUNDAY, OCTOBER 29, 2000 |  |
Groundfish Management Team Scientific and Statistical | 1 p.m. | Quay Side
Committee Salmon Subcommittee Scientific and Statistical | 1 p.m. | Quarterdeck
Committee Groundfish Subcommittee | 1 p.m. | Chart
MONDAY, OCTOBER 30, 2000 |  |
Council Secretariat | 7 a.m. | Pool Side
Groundfish Management Team | 8 a.m. | Quay Side
Salmon Technical Team | 8 a.m. | West River I
Scientific and Statistical | 8 a.m. | East River I
Groundfish Advisory Subpanel | 10:30 a.m. | East River II
Salmon Advisory Subpanel | 1 p.m. | West River II
Budget Committee | 2 p.m. | After Deck
TUESDAY, OCTOBER 31, 2000 |  |
Council Secretariat | 7 a.m. | Pool Side
California State Delegation | 7 a.m. | East River I
Oregon State Delegation | 7 a.m. | East River II
Washington State Delegation | 7 a.m. | Quay Side
Groundfish Advisory Subpanel | 8 a.m. | East River II
Salmon Advisory Subpanel | 8 a.m. | West River II
Salmon Technical Team | 8 a.m. | West River I
Scientific and Statistical SSC/GMT/GAP Joint Meeting on Groundfish Stock Assessment | 8 a.m. | East River I
Process | 10 a.m. | East River II
Enforcement Consultants | 5:30 p.m. | After Deck
Groundfish Management Team | As Needed | Quay Side
WEDNESDAY, NOVEMBER 1, 2000 |  |
Council Secretariat | 7 a.m. | Pool Side
California State Delegation | 7 a.m. | East River I
Oregon State Delegation | 7 a.m. | East River II
Washington State Delegation | 7 a.m. | Quay Side
Groundfish Advisory Subpanel | 8 a.m. | East River II
Habitat Steering Group | 9 a.m. | East River I
Enforcement Consultants | As Needed | After Dock
Groundfish Management Team | As Needed | Quay Side
THURSDAY NOVEMBER 2, 2000 |  |
Council Secretariat | 7 a.m. | Pool Side
California State Delegation | 7 a.m. | East River I
Oregon State Delegation | 7 a.m. | East River II
Washington State Delegation | 7 a.m. | Quay Side
Ad Hoc Marine Reserves | 8 a.m. | East River I
Enforcement Consultants | As Needed | After Deck
Groundfish Advisory Subpanel | As Needed | East River II
Groundfish Management Team | As Needed | Quay Side
FRIDAY, NOVEMBER 3, 2000 |  |
Council Secretariat | 7 a.m. | Pool Side
California State Delegation | 7 a.m. | East River I
Oregon State Delegation | 7 a.m. | East River II
Washington State Delegation | 7 a.m. | Quay Side

Although non-emergency issue not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 326-6352 at least 5 days prior to the meeting date.

Dated: October 4, 2000.
Richard W. Surdi,
Acting Director, Office of Sustainable Fisheries, National Marine Fisheries Service.

[FR Doc. 00-26219 Filed 10-11-00; 8:45 am]

BILLING CODE: 3510-22-S